DEPARTMENT OF LABOR

Employment and Training Administration

SCSEP Performance Measurement System

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(A)]. This program helps to ensure that requested data can be provided in the desired format, reporting burden (time and financial resources) is minimized, collection instruments are clearly understood, and the impact of collection requirements on respondents can be properly assessed. Currently, the Employment and Training Administration, Division of Older Worker Programs, is soliciting comments concerning the proposed extension of the collection for the Senior Community Service Employment Program. The proposed information collection request (ICR) documents can be obtained at this Web site: http://www.doleta.gov/Performance/guidance/OMBControlNumber.cfm.

DATES: Written comments must be submitted to the office listed in the addressee's section below on or before 60 days after the date of publication in the Federal Register.

ADDRESSES: Gale B. Gibson, U.S. Department of Labor, Employment and Training Administration, Room S-4206, 200 Constitution Avenue, NW., Washington, DC 20210; Telephone: (202) 693-3758 (This is not a toll-free number); Fax: (202) 693-3817, e-mail: gibson.gale@dol.gov.

SUPPLEMENTARY INFORMATION:

I. Background

This package contains revised performance reports for the Senior Community Service Employment Program (SCSEP). The previously approved package permitted implementation of the Older Americans Act (OAA) Amendments of 2000. That request reflected information collection requirements contained in the Final Rule submitted to OMB on December 24, 2003. The current request is for approval of modified forms required for implementation of an Internet-based SCSEP Performance and Results QPR (SPARQ) system that became effective on July 1, 2005.

The SCSEP is funded for approximately $439 million and provides over 61,000 community service positions in which over 93,000 low-income persons aged 55 or older are employed each year. About 20,000 people will be placed from the program into unsubsidized employment in the private or public sector.

To ensure that the Senior Community Service Employment Program is properly administered, and to implement the performance measures and sanctions authorized by the 2000 Amendments to the OAA, it has become necessary to expand and change the existing Quarterly Progress Report (QPR). In addition, a collection of information is required under OMB Memorandum M-02-06, which has been adopted by the Department of Labor (the Department). This requirement necessitates a collection of information to implement the Administration's common performance measures. The legal authority for the collection of additional information may be found at sections 503(a)(1), 503(e)(4), 507, 508, 513, and 514 of the 2000 Amendments to the OAA.

Data collection forms have also required enhancements to allow tracking the co-enrollment of SCSEP participants in the SCSEP 502(e) training grants that were awarded in October of 2004. The 502(e) grants are a sub-set of the SCSEP designed to involve private, for-profit businesses in training SCSEP participants.

II. Review Focus:

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Revision of a currently approved collection.

Agency: Employment and Training Administration.

Title: SCSEP Performance Measurement System.

OMB Number: 1205-0040.

Agency Form Numbers: ETA-9120, ETA-9121, ETA-9122, ETA-9123, ETA-9124A, ETA-9124B, ETA-9124C, ETA-8705, and OMB Forms SF269, SF424, and SF424A

Recordkeeping: N/A

Affected Public: Not-for-profit institutions; state, local and tribal governments; business or other for-profit; organizations; the Federal government; and individuals

Total Respondents: 324,940.

Estimated Total Burden Hours:

Estimated Total Burden Hours
Cite reference | Total respondents ¹ | Frequency | Total responses | Average time per response | Burden hours
Participant Form—ETA-9120 | 69 | Ongoing | 106,000 | 11 mins | 19,433
Community Service Assignment Form—ETA-9121 | 69 | Ongoing | 110,000 | 5 mins | 9,167
Unsubsidized Employment Form—ETA-9122 | 69 | Ongoing | 22,000 | 11 mins | 4,033
Exit Form—ETA-9123 | 69 | Ongoing | 55,000 | 2 mins | 1,833
Equitable Distribution Report Form—ETA-8705 | 56 | Annually | 56 | 12 hrs | 672
Participant Customer Satisfaction—ETA-9124A | 14,000 | Annually | 14,000 | 10 mins | 2,333
Host Agency Customer Satisfaction—ETA-9124B | 13,000 | Annually | 13,000 | 10 mins | 2,167
Employer Customer Satisfaction—ETA-9124C | 4,400 | Ongoing | 4,400 | 8 mins | 587
Financial Status Report (SF-269) | 69 | Quarterly and Final | 345 | 1 hour 15 mins | 431
Grant Planning—SF-424A | 69 | Annually | 69 | 3 hours | 207
Grant Planning—SF-424 | 69 | Annually | 69 | 45 hours | 1,725
Sub Total ETA Forms |  |  | 324,940 | 8 mins | 42,590
¹ The total respondents will likely vary from year to year.

Total Burden Cost (capital/startup): $0.

Total Burden Cost (operating/maintaining): $0.

Comments submitted in response to this comment request will be summarized and/or included in the request for Office of Management and Budget approval of the information collection request; they will also become a matter of public record.

Dated: January 27, 2006.
John R. Beverly, III,
Administrator, Office of National Programs.

[FR Doc. E6-1555 Filed 2-3-06; 8:45 am]

BILLING CODE 4510-30-P